DEPARTMENT OF COMMERCE

International Trade Administration

[A-570-893]

Certain Frozen Warmwater Shrimp From the People's Republic of China: Extension of Preliminary Results of Antidumping Duty Administrative Review

AGENCY: Import Administration, International Trade Administration, Department of Commerce.

SUMMARY: The Department of Commerce (“Department”) is extending the time limit for the preliminary results of the administrative review of certain frozen warmwater shrimp from the People's Republic of China (“PRC”). The review covers the period February 1, 2010, through January 31, 2011.

DATES: Effective Date: August 16, 2011.

FOR FURTHER INFORMATION CONTACT: Bob Palmer or Kabir Archuletta, AD/CVD Operations, Office 9, Import Administration, International Trade Administration, U.S. Department of Commerce, 1401 Constitution Avenue, NW., Washington, DC 20230; telephone: (202) 482-9068 or (202) 482-2593, respectively.

Background

On March 31, 2011, the Department published in the Federal Register a notice of initiation of the administrative review of the antidumping duty order on certain frozen warmwater shrimp from the PRC. See Initiation of Antidumping Administrative Reviews, Requests for Revocation in Part, and Deferral of Administrative Review, 76 FR 17825 (March 31, 2011). The preliminary results of the review are currently due no later than October 31, 2011.

Statutory Time Limits

Section 751(a)(3)(A) of the Tariff Act of 1930, as amended (“the Act”), requires the Department to issue preliminary results of an administrative review within 245 days after the last day of the anniversary month of an order for which a review is requested. Consistent with section 751(a)(3)(A) of the Act, the Department may extend the 245-day period to 365 days if it is not practicable to complete the review within a 245-day period.

Extension of Time Limit for Preliminary Results of Review

We determine that it is not practicable to complete the preliminary results of the administrative review on certain frozen warmwater shrimp from the PRC within the original time limit because the Department requires additional time to analyze questionnaire responses, issue supplemental questionnaires, and to evaluate surrogate value and surrogate county submissions for purposes of these preliminary results.

Therefore, in accordance with section 751(a)(3)(A) of the Act, the Department is extending the time limit for completion of the preliminary results of the administrative review by 120 days. The preliminary results will now be due no later than February 28, 2012. The final results continue to be due 120 days after the publication of the preliminary results.

This notice is published pursuant to section 777(i)(1) of the Act and 19 CFR 351.213(h)(2).

Dated: August 10, 2011.
Christian Marsh,
Deputy Assistant Secretary for Antidumping and Countervailing Duty Operations.

[FR Doc. 2011-20834 Filed 8-15-11; 8:45 am]

BILLING CODE 3510-DS-P